NATIONAL TRANSPORTATION SAFETY BOARD

Agency Information Collection Activity: Submission for OMB Review; Comment Request

AGENCY: National Transportation Safety Board (NTSB).

ACTION: Request to Reinstate a Previously Approved Information Collection.

SUMMARY: In compliance with the Paperwork Reduction Act, this notice announces the NTSB is submitting an Information Collection Request (ICR), described below, to the Office of Management and Budget (OMB) for renewal of a previously approved information collection, NTSB Form 6120.1. This ICR describes the nature of the information collection and its expected burden.

DATES: Submit written comments regarding this proposed collection of information by July 8, 2013.

ADDRESSES: Respondents may submit written comments on the collection of information to the National Transportation Safety Board, Office of Research and Engineering, 490 L'Enfant Plaza East SW., Washington, DC 20594.

FOR FURTHER INFORMATION CONTACT: Loren Groff, NTSB Office of Research and Engineering, at (202) 314-6517.

SUPPLEMENTARY INFORMATION: The NTSB is announcing the proposed extension of a public information collection and seeks public comment on the collection in accordance with the Paperwork Reduction Act. The NTSB's collection of information on Form 6120.1 is necessary to fulfill the NTSB's statutory mandate to investigate transportation accidents, because the form requests information concerning aviation accidents. This Notice informs the public that it may submit comments concerning the proposed use of this form to the NTSB. This renewal request is not associated with a rulemaking activity.

Paperwork Reduction Act Requirement

In accordance with OMB regulations that require this Notice for proposed Information Collection Requests, the NTSB herein notifies the public that it may submit comments on this proposed information collection. Title 5 CFR 1320.8(d)(1) requires an agency, prior to submitting a collection of information to OMB for approval, to “provide 60-day notice in the Federal Register, and otherwise consult with members of the public and affected agencies concerning . . . [the] proposed collection of information.” Section 1320.8(d)(1) also requires the NTSB to solicit comment on any aspect of this information collection, including: (1) Whether the proposed collection is necessary for the NTSB to perform its mission; (2) the accuracy of the estimated burden; (3) ways for the NTSB to enhance the quality, usefulness, and clarity of the collected information; and (4) ways that the burden could be minimized without reducing the quality of the collected information. The NTSB will summarize and/or include the public's comments in its subsequent request for OMB's clearance of this information collection pursuant to section 1320.10(a) of title 5, Code of Federal Regulations.

Description of NTSB Form 6120.1

The NTSB notes it has been using NTSB Form 6120.1 for several years to collect information concerning certain aviation accidents and incidents. The Pilot/Operator Aircraft Accident/Incident Report Form is used in determining the facts, conditions, and circumstances for aircraft accident prevention activities and for statistical purposes. The form is divided into 17 categories, which are titled as follows: Basic information; aircraft information; owner/operator information; other aircraft—collision information (if air or ground collision occurred); mechanical malfunction/failure; damage to aircraft and other property; airport information (to be completed if accident or incident occurred on approach, takeoff, or within 3 miles of an airport); flight itinerary information; fuel and services information; evacuation of aircraft; weather information at the accident/incident site; pilot “A” information; pilot “B” information; additional flight crew members; passengers/other personnel; narrative history of flight; and recommendation (concerning how the accident or incident may have been prevented). The basic information category requests information concerning the location and date and time of the accident or incident, the phase of operation during which the accident or incident occurred, whether the occurrence was a collision with other aircraft, and the altitude if the event was an in-flight occurrence.

The aircraft information category requests the following information concerning the aircraft: manufacturer, model, serial number, registration number, weight and center of gravity of the aircraft, whether the aircraft was amateur-built, category of aircraft, type of airworthiness certificate, number of seats, type of landing gear, type of maintenance program, type and date of last inspection, total time on airframe, type of fire extinguishing system, type of reciprocating fuel system, and type of propeller. The aircraft information category also requests “yes” or “no” answers to the following: whether the aircraft was instrument flight rules (IFR) equipped; whether it had a stall warning system installed; whether the emergency locator transmitter (ELT) was activated, and additional information about the ELT, such as whether it aided in locating the accident/incident, its manufacturer, model/series, serial number, and battery type. This section of the form also requests detailed information concerning the engine(s) on the aircraft, such as the engine manufacturer, model/series, serial number, date of manufacture, type of power measurement (horsepower or pounds of thrust), total time on engine, time since last inspection, and time since overhaul. In the category entitled, “Other Aircraft—Collision,” the form requests a few types of information similar to that in the aircraft information category, such as the aircraft registration number, manufacturer and model, and the names and contact information for the registered owner and pilot of the other aircraft. Lastly, the form includes a categorization of the aircraft damage, whether the aircraft sustained minor or no damage, substantial damage or was destroyed.

The owner/operator section of NTSB Form 6120.1 also requests specific information concerning the status of the aircraft. For example, the category includes requests for the names and contact information for both the owner and the operator of the aircraft, the Federal Aviation Regulation under which the flight was conducted, whether the flight was a revenue sightseeing flight or air medical flight, the purpose of the flight, the type of revenue operation, type of cargo operation (if applicable), and the type of commercial operating certificate the operator holds.

The form also seeks information concerning whether the aircraft sustained a mechanical malfunction or failure. In this category, the form provides the answers of “yes,” “no,” or “unknown,” to the question of whether a mechanical malfunction or failure occurred. If yes, the form provides space for the respondent to provide the name of the part, manufacturer, part number, serial number, and a description of the failure. The form also requests the total time/cycles on the part at issue, as well as the number of hours since the part was inspected or overhauled.

The form requests a brief amount of information concerning damage to aircraft and other property, such as a categorization of the aircraft damage as none, minor, substantial, or destroyed; as well as whether an in-flight or on-ground fire occurred. This section of the form also includes a box in which respondents can provide a narrative description of damage to the aircraft or other property.

Regarding airport information, the form requests the airport name and identifier, the aircraft's proximity to airport (as off or on the airport or airstrip), distance and direction from airport, and the elevation of the airport. The form includes boxes for respondents to check describing the approach segment, type of IFR approach, type of visual flight rules (VFR) approach, runway information, and type and condition of runway or landing surface.

The form also requests information concerning the flight itinerary, such as the last departure point and time of departure, and the destination. By way of check-the-box responses, this category also requests information concerning the type of flight plan filed, type of air traffic control clearance or service, airspace where the accident or incident occurred, and a description of the aircraft load.

In the fuel and services category, the form requests general information, mostly via check-the-box responses, concerning fuel and services. These requests for information include the amount of fuel on board at the last takeoff (in gallons), the type of fuel, and any other services that may have occurred prior to takeoff. Similarly, the form requests a brief amount of information concerning the evacuation of the aircraft; the form only asks whether an emergency evacuation was performed and the method of exit.

The form requests information concerning weather conditions at the time of the accident. These requests within the weather category ask for information concerning the weather observation facility; the source of weather information; the method of briefing concerning weather as well as the type and completeness of the briefing; the light condition; characterization of visibility; sky and lowest cloud condition; the ceiling and its height; the restriction on visibility; the wind direction, speed, and gusts; the type and severity of turbulence; and a list of Notices to Airman and other similar advisories in effect at the time of the flight. In addition, the form requests the temperature, altimeter setting, density altitude, and dew point. Finally, this category of the form requests information concerning actual and forecasted conditions concerning icing, as well as the type and intensity of any precipitation.

Concerning the crew aboard the aircraft, the form requests information concerning both pilots, such as names and contact information, dates of birth, certificate numbers, degree of injury, seats occupied, whether the pilots used seat belts and shoulder harnesses, the types of pilot and medical certificates held, the principal occupation, and date of last aviation medical examination. With regard to each pilot's medical information, the form also requests a listing of any medical certificate limitations and waivers. The form also requests information concerning each pilot's flight reviews, such as the date of the last flight review and the type of aircraft used on the last flight review; further, the form solicits information concerning each pilot's ratings, such as aircraft ratings, instrument ratings, instructor ratings, and type ratings, as well as student endorsements. Finally, the form includes a table requesting the amount of flight time (categorized into the following sections: Total flight time, pilot-in-command time, instructor time, time in this make/model, and time during the last 90 days, 30 days, and 24 hours) concerning: All aircraft, this make and model, airplane single- and multi-engine, night, instrument, rotorcraft, glider, and lighter than air.

In a category concerning additional crewmembers, the form includes several spaces for listing the following information concerning different crewmembers: Pilot names and contact information, degree of injury, seat occupied, type of pilot certificates, whether the crewmember was type-rated for the aircraft involved in the accident or incident, and the total flight time at the time of the accident or incident. With regard to passengers, the form only requests the name, city, state, and zip code for each passenger, as well as the seat number, whether the passenger is crew, non-revenue, revenue, non-occupant, or Federal Aviation Administration (FAA).

As stated above, the form concludes with areas for a narrative history of the flight and the events or actions the respondent believes may have prevented the accident or incident. The form also includes a certification statement for the respondent to sign, attesting that the information provided on the form is complete and accurate to the best of his or her knowledge.

Use of Information on NTSB Form 6120.1

In general, the NTSB uses the information provided on Form 6120.1 to determine the facts, conditions, and circumstances for aircraft accident prevention activities and for statistical purposes. The NTSB typically receives several notifications for each accident or incident, but only requests completion of Form 6120.1 once the NTSB has determined it will pursue an investigation into the event. The NTSB's investigations of aviation accidents and incidents are exhaustive. The NTSB utilizes a “party process,” as described in 49 CFR part 831, for its investigations. This process involves the NTSB's invitation to outside entities to assist with an investigation as a “party.” The NTSB extends party status to those organizations that can provide the necessary technical assistance to the investigation. The investigator-in-charge (IIC), for example, often confers party status to the operator, aircraft, systems, and powerplant manufacturers, and labor organizations involved because of the accident circumstances. Everyone involved in an NTSB investigation, including the parties, depend on accurate information contained in NTSB Form 6120.1 while conducting the investigation and determining which areas warrant focus and attention. Overall, the NTSB considers Form 6120.1 to be critical to its statutory function of investigation accidents and incidents, and subsequently issuing safety recommendations in an effort to prevent future accidents and incidents.

The NTSB has carefully considered whether this collection of information on Form 6120.1 is duplicative of any other agency's collections of information. The NTSB is unaware of any form the FAA disseminates that solicits the same information Form 6120.1 requires. However, the NTSB notes some operators may choose to provide a voluntary report to the National Aeronautics and Space Administration (NASA) in accordance with the Aviation Safety Reporting Program (ASRP). NASA will not accept ASRP reports concerning aircraft accidents; however, it is possible that an operator could report an incident to the NTSB, as defined in 49 CFR 830.2, and contemporaneously submit an ASRP report to NASA.

The NTSB notes completion of NTSB Form 6120.1 is not voluntary, but is required by 49 CFR 830.15(a). The NTSB, in general, will not accept partially completed forms; NTSB investigators will exercise their discretion in requesting completion of a copy of Form 6120.1 a respondent submits that is partially completed.

Currently, the NTSB accepts paper copies of Form 6120.1 sent via postal mail or facsimile, as well as electronic copies of Form 6120.1 that respondents submit via electronic mail. For electronically submitted copies, the NTSB notes its public Web site contains a fill-able version of Form 6120.1. The NTSB has received comments from various respondents who have requested an automated version of the form be available on the NTSB Web site. The NTSB is currently working to make the form available in such a manner, and is committed to providing the simplest manner of submission for all respondents. The NTSB plans to release a web-based version of the form before the end of 2013.

The NTSB has carefully reviewed the form to ensure that it has used plain, coherent, and unambiguous terminology in its request for information. The NTSB estimates that respondents will spend approximately 60 minutes in completing the form. The NTSB estimates that approximately 1,800 respondents per year will complete the form, but notes that this number may vary, given the unpredictable nature of the frequency of aviation accidents and incidents.

Deborah A.P. Hersman,
Chairman.

[FR Doc. 2013-10776 Filed 5-6-13; 8:45 am]

BILLING CODE 7533-01-P